ENVIRONMENTAL PROTECTION AGENCY

[OPP-2003-0339: FRL- 7331-3]

Cancellation of Pesticides for Non-payment Of Year 2003 Registration Maintenance Fees

AGENCY: Environmental Protection Agency (EPA).

ACTION: Notice.

SUMMARY: Since the amendments of October, 1988, the Federal Insecticide, Fungicide, and Rodenticide Act (FIFRA) has required payment of an annual maintenance fee to keep pesticide registrations in effect. The fee due last January 15 has gone unpaid for 864 registrations. Section 4(i)(5)(G) of FIFRA provides that the Administrator may cancel these registrations by order and without a hearing; orders to cancel all 864 of these registrations have been issued within the past few days.

FOR FURTHER INFORMATION CONTACT: For further information on the maintenance fee program in general, contact by mail: John Jamula, Office of Pesticide Programs (7504C), Environmental Protection Agency, 1200 Pennsylvania Avenue NW, Washington, DC 20460; telephone number: (703) 305-6426; e-mail address: jamula.john@epa.gov.

SUPPLEMENTARY INFORMATION:

I. Important Information

A. Does this Apply to Me?

You may be potentially affected by this notice if you are an EPA registrant with any approved product registration(s). Although this action may be of particular interest to persons who produce or use pesticides, the Agency has not attempted to describe all the specific entities that may be affected by this action. If you have any questions regarding the information in this notice, consult the person listed in the FOR FURTHER INFORMATION CONTACT section.

B. How Can I Get Additional Information or Copies of Support Documents?

1. Electronically. You may obtain electronic copies of this document and various other related documents that might be available from the EPA Internet Home Page at http://www.epa.gov/fedrgstr/.

The Agency has established an official record record for this Action under docket control number OPP-2003-0339. The official record consists of the documents specifically referenced in this action, any public comments received during an applicable comment period, and other information related to this action, including any information claimed as Confidential Business Information (CBI). The official record includes the documents that are physically located in the docket, as well as the documents that are referenced in those documents. The public version of the official record does not include any information that is claimed as CBI. The public version of the official record, which includes printed paper versions of any electronic comments submitted during an applicable comment period, is available for inspection in the Public Information and Records Integrity Branch (PIRIB), Room 119, Crystal Mall #2, 1921 Jefferson Davis Highway, Arlington, VA, from 8:30 a.m. to 4 p.m., Monday through Friday, excluding legal holidays. The PIRIB telephone number is (703) 305-5805.

II. Introduction

Section 4(i)(5) of FIFRA as amended in October, 1988 (Public Law 100-532), December, 1991 (Public Law 102-237), and again in August, 1996 (Public Law 104-170), requires that all pesticide registrants pay an annual registration maintenance fee, due by January 15 of each year, to keep their registrations in effect. This requirement applies to all registrations granted under section 3 as well as those granted under section 24(c) to meet special local needs. Registrations for which the fee is not paid are subject to cancellation by order and without a hearing.

The Food, Agriculture, Conservation, and Trade Act Amendments of 1991, Public Law 102-237, amended FIFRA to allow the Administrator to reduce or waive maintenance fees for minor agricultural use pesticides when she determines that the fee would be likely to cause significant impact on the availability of the pesticide for use. The Agency has waived the fee for 141 minor agricultural use registrations at the request of the registrants.

In fiscal year 2003, maintenance fees were collected in two billing cycles. During the first cycle, the Agency was operating under a continuing resolution which authorized the Agency to collect $17 million. In late December 2002, all holders of either section 3 registrations or section 24(c) registrations were sent lists of their active registrations, along with forms and instructions for responding. They were asked to identify which of their registrations they wished to maintain in effect, and to calculate and remit the appropriate maintenance fees. Recipients of these initial bills were also notified that a second final bill would also be issued if the Agency's Appropriations Bill authorized collection of more than $17 million. Most responses were received by the statutory deadline of January 15. A notice of intent to cancel was sent in mid-February to companies who did not respond and to companies who responded, but paid for less than all of their registrations.

The Agency's Appropriations Bill was passed by Congress in March, 2003. This Appropriations Bill authorized the Agency to collect $21.5 million in maintenance fees. To collect the additional $4.5 million, the Agency initiated a second billing in early May. Final payments were due on June 15, 2003.

Since mailing the notices, EPA has maintained a toll-free inquiry number through which the questions of affected registrants have been answered.

Maintenance fees have been paid for about 15,120 section 3 registrations, or about 93 percent of the registrations on file in December. Fees have been paid for about 2,258 section 24(c) registrations, or about 86 percent of the total on file in December. Cancellations for non-payment of the maintenance fee affect about 599 section 3 registrations and about 265 section 24(c) registrations.

The cancellation orders generally permit registrants to continue to sell and distribute existing stocks of the canceled products until January 15, 2004, 1 year after the date on which the fee was due. Existing stocks already in the hands of dealers or users, however, can generally be distributed, sold, or used legally until they are exhausted. Existing stocks are defined as those stocks of a registered pesticide product which are currently in the United States and which have been packaged, labeled and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-payment

Table 1 lists all of the Section 24(c)registrations, and Table 2 Lists all of the Section 3 registrations which were canceled for non-payment of the 2003 maintenance fee. These registrations have been canceled by order and without hearing. Cancellation orders were sent to affected registrants via certified mail in the past several days. The Agency is unlikely to rescind cancellation of any particular registration unless the cancellation resulted from Agency error.

Table 1.—Section 24(c) Registrations Canceled for Non-Payment of Maintenance Fee
SLN no. | Product Name
001812 AL-00-0002 | Griffin Linuron 4L Flowable Weed Killer
010182 AL-83-0013 | Ambush Insecticide
010182 AL-94-0005 | Gramoxone Extra Herbicide
000279 AL-98-0002 | Command 3ME Microencapsulated Herbicide
050534 AL-99-0003 | Bravo 720
050534 AR-00-0001 | Bravo 720
001812 AR-00-0007 | Griffin Linuron 4L Flowable Weed Killer
000241 AR-01-0003 | Pursuit Herbicide
010163 AR-01-0006 | Sandea Herbicide
000279 AR-02-0002 | Command 3ME Microencapsulated Herbicide
010182 AR-95-0002 | Gramoxone Extra Herbicide
000279 AR-97-0003 | Command 3ME
073049 AZ-00-0002 | Pro-Gibb 4% Liquid Concentrate
047332 AZ-01-0005 | Bug Juice
010163 AZ-02-0001 | Sandea Herbicide
067379 AZ-90-0014 | Vinco Formaldehyde Solution
010182 AZ-93-0007 | Prelude Termiticide/insecticide
010182 AZ-93-0008 | Demon Tc Insecticide
000279 AZ-93-0009 | Ammo 2.5 EC Insecticide
019713 AZ-94-0005 | Drexel Dimethoate 4EC
019713 AZ-96-0004 | Drexel Dimethoate 2.67
000264 AZ-98-0007 | Carzol SP In Water Soluble Packaging
010707 AZ-98-0008 | Magnacide H Herbicide
010163 AZ-99-0007 | Supracide 25W
074064 CA-01-0006 | Pro-Gibb 4% Liquid Concentrate
059623 CA-76-0165 | Kelthane 35 Agricultural Miticide Wettable Powder
000264 CA-81-0016 | Temik(r) Aldicarb Pesticide 15% Granular
005905 CA-82-0013 | Supreme Spray Insecticide-Miticide Liquid
056984 CA-85-0041 | Dimilin W-25 for Mushrooms
011028 CA-85-0051 | Goal 1.6E Herbicide
063184 CA-86-0016 | Kocide 101
002935 CA-87-0021 | K M Harvest Aid
002935 CA-87-0022 | K M Harvest Aid
002935 CA-87-0023 | K M Harvest Aid
059623 CA-89-0025 | Rodent Bait Block Chlorophacinone Treated Grain/paraffin
065361 CA-89-0059 | Plantfume 103 Smoke Generator
063805 CA-90-0017 | Pro-Gibb Plus 20% Soluble Powder
010182 CA-91-0021 | Gramoxone Extra Herbicide
010182 CA-91-0023 | Gramoxone Extra Herbicide
010182 CA-91-0031 | Gramoxone Extra Herbicide
005905 CA-92-0003 | Helena Brand Cythion 8 Lb Emulsion
066233 CA-92-0009 | Eptam 7-E
003404 CA-92-0010 | Sunny Sol SDS
066276 CA-92-0011 | Comite Agricultural Miticide
064864 CA-92-0024 | Deadline Bullets
010182 CA-94-0012 | Reward Herbicide
066233 CA-94-0032 | Treflan TR-10
010182 CA-96-0007 | Gramoxone Extra Herbicide
072051 CA-98-0024 | Gibgro 4LS
005813 CA-98-0026 | Clorox_bleach
073049 CA-99-0012 | Pro-Gibb 4% Liquid Concentrate
073049 CA-99-0029 | Pro-Gibb 4% Liquid Concentrate
000264 CO-00-0002 | Balance Herbicide
000264 CO-00-0007 | Sevin Xlr Plus Carbaryl Insecticide
000264 CO-01-0001 | Balance Herbicide
000264 CO-01-0002 | Balance 4SC Herbicide
007501 CO-99-0004 | MZ-Curzate
000241 CO-99-0007 | Raptor Herbicide
002393 CT-96-0002 | Ramik Brown
074529 DE-01-0003 | Tolcide PS200
010182 DE-94-0002 | Gramoxone Extra Herbicide
073049 FL-00-0001 | Pro-Gibb 4% Liquid Concentrate
010182 FL-01-0003 | Cyclone Concentrate/gramoxone Max
010163 FL-01-0007 | Sandea Herbicide
000148 FL-88-0023 | Sodium Hypochlorite Solution
010182 FL-90-0009 | Gramoxone Extra Herbicide
010182 FL-91-0004 | Gramoxone Extra Herbicide
010182 FL-91-0006 | Gramoxone Extra Herbicide
010182 FL-92-0011 | Gramoxone Extra Herbicide
010182 FL-96-0009 | Gramoxone Extra Herbicide
000400 GA-00-0004 | Terrazole 35% Wettable Powder
073342 GA-01-0005 | Amdro Fire Ant Bait Yard Treatment
010163 GA-02-0001 | Sandea Herbicide
010182 GA-83-0007 | Ambush Insecticide
010182 GA-94-0006 | Gramoxone Extra Herbicide
010182 GA-95-0008 | Gramoxone Extra Herbicide
000279 GA-98-0002 | Command 3me Microencapsulated Herbicide
045631 HI-90-0003 | Alcide Ld 10:1:1 - Base
010182 HI-91-0001 | Gramoxone Extra Herbicide
066459 HI-96-0002 | Mon-65005 Herbicide
010182 HI-96-0003 | Gramoxone Extra Herbicide
010182 HI-97-0004 | Ambush Insecticide
000264 ID-00-0014 | Sevin XLR Plus Carbaryl Insecticide
010182 ID-00-0015 | Gramoxone Extra Herbicide
000241 ID-01-0013 | Acrobat 50WP Fungicide
071711 ID-02-0005 | Moncut 70-DF
000352 ID-80-0009 | Du Pont Sinbar Terbacil Weed Killer
034704 ID-88-0009 | Clean Crop Cheat Stop 90 WDG
005905 ID-92-0004 | Setre Dimethoate 4ec Systemic Insecticide
010182 ID-92-0011 | Gramoxone Extra Herbicide
000352 ID-97-0001 | Dupont Oust Herbicide
000264 ID-98-0011 | Phaser 3ec Insecticide
000264 ID-98-0012 | Phaser 3ec Insecticide
010163 ID-99-0003 | Savey Ovicide/miticide 50-WP
000241 ID-99-0006 | Raptor Herbicide
000279 IL-00-0002 | Command 3ME Microencapsulated Herbicide
010163 IL-02-0001 | Sandea Herbicide
000400 IN-00-0001 | Terrazole 35% Wettable Powder
010163 IN-02-0002 | Sandea Herbicide
002393 IN-83-0003 | Hopkins Zinc Phosphide Mouse Bait for Control of Mice
000400 IN-99-0002 | Comite Agricultural Miticide
000400 KY-00-0001 | Terrazole 35% Wettable Powder
010182 LA-00-0003 | Gramoxone Extra Herbicide
001812 LA-01-0014 | Griffin Boa Herbicide
050534 LA-90-0008 | Bravo 720
010182 LA-95-0003 | Gramoxone Extra Herbicide
000279 LA-97-0001 | Command 4EC Herbicide
010182 LA-98-0009 | Gramoxone Extra Herbicide
010163 MA-02-0001 | Sandea Herbicide
010182 MD-94-0007 | Gramoxone Extra Herbicide
007501 ME-00-0001 | Tops - MZ - Gaucho
071711 ME-02-0001 | Moncut 70-DF
071711 ME-02-0002 | Moncut 70-DF
071711 ME-02-0003 | Moncut 70-DF
000352 ME-98-0002 | Velpar L Herbicide
000352 ME-98-0003 | Velpar DF Herbicide
007501 ME-99-0002 | MZ - Curzate
001278 MI-01-0002 | Triangle Brand Copper Sulfate Crystal
010163 MI-01-0003 | Sandea Herbicide
000100 MN-00-0005 | Discover Herbicide
001278 MN-01-0002 | Triangle Brand Copper Sulfate Crystal
004581 MN-02-0001 | Aquathol K Aquatic Herbicide
004581 MN-02-0002 | Aquathol Super K Granular Aquatic Herbicide
004581 MN-02-0003 | Hydrothol 191
004581 MN-02-0004 | Hydrothol 191 Granular Aquatic Algicide and Herbicide
010182 MN-94-0006 | Gramoxone Extra Herbicide
007501 MN-99-0004 | MZ - Curzate
007501 MN-99-0007 | Tops - MZ - Gaucho
000279 MN-99-0008 | Command 3ME Microencapsulated Herbicide
000400 MO-01-0001 | Terrazole 35% Wettable Powder
000241 MO-01-0002 | Pursuit Herbicide
010163 MO-01-0004 | Sandea Herbicide
001812 MS-01-0026 | Glyphosate Original Herbicide
001812 MS-01-0027 | Dupont Glyphosate Herbicide
001812 MS-01-0028 | Griffin Boa Herbicide
000241 MS-01-0033 | Pursuit Herbicide
010182 MS-83-0016 | Ambush Insecticide
050534 MS-90-0001 | Bravo 720
009779 MS-90-0030 | Riverside 120 Herbicide
010182 MS-95-0005 | Gramoxone Extra Herbicide
067760 MS-97-0005 | Cyren TC
000279 MS-97-0012 | Command 4EC Herbicide
007501 MT-00-0001 | Admire 2 Flowable
000100 MT-00-0011 | Discover Herbicide
000264 MT-00-0012 | Sevin XLR Plus Carbaryl Insecticide
034704 MT-95-0005 | Vine - DER Herbicide
000241 MT-99-0002 | Raptor Herbicide
007501 MT-99-0003 | Gaucho 75 ST Insecticide
007501 MT-99-0004 | Tops - MZ - CZ
000100 MT-99-0010 | Maxim MZ Potato Seed Protectant
000400 NC-00-0001 | Terrazole 35% Wettable Powder
010182 NC-01-0001 | Cyclone Concentrate/gramoxone Max
010163 NC-01-0004 | Sandea Herbicide
003510 NC-01-0005 | Pounce 3.2 EC Insecticide
010182 NC-83-0020 | Ambush Insecticide
010182 NC-95-0003 | Gramoxone Extra Herbicide
000279 NC-97-0005 | Command 3ME Microencapsulated Herbicide
050534 NC-99-0005 | Bravo 720
000100 ND-00-0005 | Discover Herbicide
000524 ND-01-0009 | Mon-65005 Herbicide
000524 ND-97-0001 | Mon-65005 Herbicide
000264 NE-00-0003 | Sevin XLR Plus Carbaryl Insecticide
000400 NE-02-0005 | Dimilin 2l
007501 NJ-00-0001 | Tops - MZ - Gaucho Potato Seed - Piece Treatment
007501 NJ-00-0002 | Admire 2 Flowable
010163 NJ-01-0003 | Sandea Herbicide
050534 NJ-96-0007 | Bravo 720
050534 NJ-96-0008 | Bravo 825
000279 NJ-99-0002 | Command 4EC Herbicide
000100 NJ-99-0011 | Dual Magnum Herbicide
010182 NM-84-0005 | Ambush Insecticide
000264 NV-00-0003 | Sevin XLR Plus Carbaryl Insecticide
071711 NV-02-0001 | Moncut 70-DF
010182 NV-91-0002 | Gramoxone Extra Herbicide
000241 NV-99-0004 | Raptor Herbicide
000264 NY-01-0004 | Previcur
000400 OH-00-0004 | Terrazole 35% Wettable Powder
073425 OH-00-0005 | Dupont Matrix Herbicide
010163 OH-02-0002 | Sandea Herbicide
010163 OK-01-0001 | Sandea Herbicide
010182 OK-83-0021 | Ambush Insecticide
000279 OK-95-0003 | Command 4EC Herbicide
045639 OR-00-0003 | Ignite 1SC Herbicide
010163 OR-01-0008 | Sandea Herbicide
071711 OR-01-0015 | Moncut 50WP
055260 OR-02-0005 | Syllit 65w Fruit Fungicide
071711 OR-02-0007 | Moncut 70-DF
000241 OR-02-0021 | Acrobat 50WP Fungicide
000352 OR-80-0021 | Du Pont Sinbar Terbacil Weed Killer
010182 OR-91-0023 | Gramoxone Extra Herbicide
034704 OR-94-0015 | Vine-DER Herbicide
000264 OR-96-0011 | Rovral Fungicide
000264 OR-96-0012 | Rovral 4 Flowable
000264 OR-96-0028 | Aliette WDG Fungicide
000264 OR-96-0032 | Rovral 4 Flowable
007501 OR-99-0002 | Tops - MZ - Gaucho
010163 OR-99-0003 | Savey Ovicide/miticide 50-WP
007501 OR-99-0012 | Tops-MZ-CZ
000352 OR-99-0044 | Dupont Oust Herbicide
059639 OR-99-0045 | Select 2EC Herbicide
073219 PA-00-0001 | Dupont Matrix Herbicide
007501 PA-01-0001 | Tops-MZ-Gaucho
010163 PA-02-0001 | Sandea Herbicide
000400 SC-00-0003 | Terrazole 35% Wettable Powder
001812 SC-01-0002 | Griffin Boa Herbicide
010182 SC-83-0010 | Ambush Insecticide
010182 SC-95-0007 | Gramoxone Extra Herbicide
000279 SC-97-0009 | Command 3ME Microencapsulated Herbicide
010182 SC-99-0003 | Bravo 720
000264 SD-00-0007 | Sevin XLR Plus Carbaryl Insecticide
000100 SD-00-0009 | Discover Herbicide
000352 SD-01-0001 | DPX-Mx670 MT
010182 SD-94-0005 | Gramoxone Extra Herbicide
000524 SD-97-0002 | Mon-65005 Herbicide
000400 TN-00-0002 | Terrazole 35% Wettable Powder
001812 TN-00-0005 | Griffin Linuron 4L Flowable Weed Killer
010182 TN-94-0003 | Gramoxone Extra Herbicide
010182 TN-94-0008 | Gramoxone Extra Herbicide
010182 TN-95-0002 | Gramoxone Extra Herbicide
000279 TN-98-0002 | Command 4EC Herbicide
005481 TN-98-0007 | Dibrom 8 Emulsive
001812 TX-00-0012 | Griffin Linuron 4L Flowable Weed Killer
007501 TX-01-0001 | Admire 2 Flowable
000241 TX-01-0003 | Pursuit Herbicide
010163 TX-01-0010 | Sandea Herbicide
010182 TX-83-0027 | Ambush Insecticide
000279 TX-97-0005 | Command 3ME Microencapsulated Herbicide
010182 TX-99-0007 | Bravo 720
010182 TX-99-0016 | Gramoxone Extra Herbicide
000264 UT-00-0007 | Sevin XLR Plus Carbaryl Insecticide
000352 UT-98-0004 | Dupont Oust Herbicide
000241 UT-99-0001 | Raptor Herbicide
000400 VA-00-0002 | Terrazole 35% Wettable Powder
010163 VA-01-0003 | Sandea Herbicide
050534 VA-93-0007 | Bravo 720
000100 VT-80-0008 | Aatrex Nine-O
010163 WA-01-0017 | Sandea Herbicide
071711 WA-02-0004 | Moncut 70-DF
000400 WA-02-0006 | Dimilin 2L
000352 WA-80-0010 | Du Pont Sinbar Terbacil Weed Killer
064428 WA-90-0024 | Vinco Formaldehyde Solution
010182 WA-91-0044 | Gramoxone Extra Herbicide
010182 WA-91-0048 | Gramoxone Extra Herbicide
010182 WA-91-0049 | Gramoxone Extra Herbicide
034704 WA-94-0027 | Vine-DER Herbicide
010163 WA-95-0002 | Metasystox-R Spray Concentrate
010163 WA-95-0003 | Metasystox-R Spray Concentrate
010163 WA-96-0008 | Metasystox-R Spray Concentrate
010163 WA-99-0010 | Savey Ovicide/miticide 50-WP
000241 WA-99-0017 | Raptor Herbicide
010163 WA-99-0018 | Savey Ovicide/miticide 50-WP
007501 WI-00-0002 | Admire 2 Flowable
004581 WI-02-0003 | Aquathol K Aquatic Herbicide
004581 WI-02-0004 | Aquathol Super K Granular Aquatic Herbicide
004581 WI-02-0005 | Hydrothol 191
004581 WI-02-0006 | Hydrothol 191 Granular Aquatic Algicide and Herbicide
007501 WI-99-0005 | Tops - MZ - CZ
007501 WI-99-0011 | Tops - MZ -Gaucho
000400 WI-99-0016 | Comite Agricultural Miticide
000264 WY-00-0005 | Sevin XLR Plus Carbaryl Insecticide
000400 WY-96-0001 | Comite Agricultural Miticide
000352 WY-98-0005 | Dupont Asana XL Insecticide
061282 WY-98-0008 | Zinc Phosphide Oat Bait
000241 WY-99-0001 | Raptor Herbicide
007501 WY-99-0002 | Tops - MZ - CZ

Table 2 Lists all of the Section 3 registrations which were canceled for non-payment of the 2003 maintenance fee.

Table 2.—Section 3 Registrations Canceled for Non-Payment of Maintenance Fee
Registration no. | Product Name
000003-20201 | Harris Roach Powder
000030-00027 | Kill Gophers Sweeney's Gopher Bait
000052-00009 | Comax
000052-00040 | Showersan
000052-00161 | Westosan
000052-00235 | Prepodyne Whirlpool Additive
000056-00023 | Eaton's “Semi-Permanent” Bait Blocks Rodenticide
000056-00071 | Jt Eaton A-C Formula 90 Bulk Rodenticide
000070-00236 | Rigo Insyst-D
000100-00972 | Expert NT Herbicide
000279-02875 | Niagara Furadan 75 Wettable Powder Insecticide
000335-00229 | Sodium Chlorate
000335-00230 | Sodium Chlorate Solution
000335-00231 | Sodium Chlorate Solution - 39.5%
000335-00232 | Sodium Chlorate Crystal
000358-00174 | Termite and Carpenter Ants Killer
000400-00473 | Dimilin - 2F
000464-00669 | Bronopol Preservative
000464-00677 | Myacide S-1
000464-00681 | Myacide Bt
000464-00695 | Ucarcide 145 LT Antimicrobial
000464-00710 | Ucarsan 4256 Sanitizer
000499-00220 | Whitmire Perma-Dust PT 240
000499-00223 | Whitmire Pt 230 Tri-Die
000499-00251 | Whitmire Fabric Insectproofer #1
000499-00252 | Whitmire Fabric Insectproofer #2
000499-00259 | Whitmire General Purpose Insect Killer with Sumithrin
000499-00289 | Whitmire PT 259 Baygon Residual Injection System
000499-00305 | Whitmire PT 576
000499-00354 | P/p Mothproofer Spray No. 2
000499-00403 | Whitmire TC 103
000499-00433 | Whitmire Avert TC 141 Insecticide
000499-00438 | Whitmire TC 168
000499-00451 | Uld 550 D Dairy and Livestock Flying Insect Concentrate
000499-00461 | Micro Gen Pro Control Fogger III
000499-00463 | Pro-Control Fogger V
000499-00464 | Pro-Control Inspector II
000499-00487 | TC-221
000507-00005 | Liquid Improved Timsen 40% Concentrate
000507-00009 | U-Chem-Co 3-D Detergent Disinfectant Deodorant
000507-00014 | Kleen-Quat
000507-00023 | Econo-San
000524-00453 | Hybrex 2lc Chemical Hybridizing Agent
000527-00095 | Germ-O-Solv “2”
000527-00117 | Bytech Ten-Fifty
000572-00251 | Crabgrass Preventer with Balan
000572-00292 | 5% Diazinon Granular Lawn Insecticide
000572-00324 | Turf Food 15-3-5 Plus Team
000572-00329 | Urban Insect Spray
000644-00103 | Orchex 796B
000655-00318 | Prentox Warfarin Technical
000655-00441 | Prentox Residual Concentrate Dv-One
000655-00557 | Prentox Diazinon 14G
000655-00644 | Prentox Pyronyl Oil Concentrate #1233-A
000655-00788 | Carbaryl 5D
000655-00789 | Prentox Carbaryl 10d
000773-00090 | Mnda Sch-51551
000779-00013 | F & B Tobacco Dust
000806-00010 | Skin So Soft Bug Guard
000806-00011 | Skin-So-Soft Bug Guard Towelettes
000829-00257 | Sa-50 Home & Garden Oftanol 1.5% Granular
000829-00290 | Sa-50 Dursban 1-E Insecticide
000869-00076 | Green Light Double Duty Rose Care 6-10-4 with Systemic
000869-00203 | Green Light Grubworm Killer
000869-00223 | Green Light Systemic Insecticide
000869-00226 | Green Light Grass & Weed Killer
001043-00116 | T.B.Q. RTU
001203-00014 | Foremost 1690 Quad-Dis
001203-00066 | Foremost 4519 Pine-Aire
001203-00067 | Foremost 4806 Hi-Power Food Plant Insecticide
001386-00352 | Methoxychlor Emulsifiable Concentrate
001440-00001 | Tomic Micro-Cide Dust
001440-00007 | Tomic Propoxur Residual Spray
001448-00033 | Bl Busan 77
001448-00129 | W-15-13
001448-00130 | W-15-7
001448-00131 | W-15-14
001448-00154 | T-5-3
001448-00209 | W-15-11
001448-00210 | W-15-12
001448-00213 | W-15-8
001448-00214 | W-15-9
001448-00215 | W-15-10
001448-00219 | B-7-4
001448-00220 | B-7-5
001448-00221 | B-7-6
001448-00222 | B-7-7
001448-00223 | B-7-8
001448-00224 | B-7-9
001448-00225 | B-7-10
001448-00226 | B-7-11
001448-00227 | B-7-12
001448-00228 | B-7-13
001448-00229 | B-7-14
001448-00230 | B-7-15
001448-00238 | W-30-7
001448-00239 | W-30-8
001448-00240 | W-30-9
001448-00241 | W-30-10
001448-00242 | W-30-11
001448-00251 | W-15-17
001448-00253 | W-15-18
001448-00254 | W-15-15
001448-00273 | W-30-17
001448-00294 | T-30-3
001448-00304 | W-60-11
001448-00306 | B-7-25
001448-00307 | B-7-24
001448-00308 | B-7-23
001448-00309 | B-7-22
001448-00310 | B-7-21
001448-00311 | B-7-20
001448-00312 | B-7-19
001448-00313 | B-7-18
001448-00314 | B-7-17
001459-00018 | Bullen Activated Pine Type Disinfectant
001459-00023 | Bullen Pine Odor Disinfectant Coef. 3
001459-00080 | Pine Quat
001459-00094 | Hi-Sept 400
001469-00026 | Citron Detergent Disinfectant
001475-00130 | Enoz Para Moth Balls Cedar Scented
001475-00135 | Excell Moth Balls
001624-00127 | Borax WP
001674-00016 | Stetco Maintainer - D.I.S.
001677-00063 | Bevro Klene
001677-00167 | Boot Wash #10
001677-00188 | CD-612
001706-00146 | Nalco 7328
001706-00184 | TX-10861
001706-00232 | Iocide
001706-00233 | Sanit C-16 Bactericide-Deodorizer
001706-00234 | Chemprocide
001757-00041 | Amerstat 233
001757-00043 | Biosperse 212
001757-00074 | Biosperse 4505
001759-00007 | Para-Dichlorobenzene
001760-00024 | Ampicide 5
001760-00027 | Ampicide-9
001839-00026 | B T C 100 Concentrate
001839-00031 | BTC-8358ALC
001839-00043 | So/San 66 Concentrated Softener Sanitizer for Manufactu
001839-00061 | BTC 927.
001839-00069 | BTC-E 2125m-80%
001839-00070 | BTC-E 2125-80% Concentrated Germicide
001839-00071 | BTC-E-8248 80%
001839-00074 | BTC 1326
001839-00075 | Lispar Algaecide 10%
001839-00076 | Soft-A-Cide #537
001839-00116 | Onyxide 200-Methanol Preservative
001839-00117 | Onyxide 450
001839-00125 | NP 9.0 (H.W.) Detergent/disinfectant
001839-00126 | NP 4.5 (H.W.) Detergent/disinfectant
001839-00127 | NP 12.5 (H.W.) Detergent/disinfectant
001839-00149 | DC-7550 Disinfectant
001839-00150 | DC-7128 Disinfectant Cleaner
001903-00021 | 8 In 1 14 Day Flea & Tick Spray
001903-00022 | 8 In 1 Non Residual Flea & Tick Spray
001903-00023 | 8 In 1 14 Day Flea & Tick Dip
001903-00024 | 8 In 1 Flea & Tick Dip
001903-00025 | 8 in 1 Lawn Spray
001903-00026 | 8 in 1 Carpet Spray
001903-00027 | 8 in 1 Flea & Tick Indoor Fogger
002011-00005 | Vigortone Bovotone FC “007”_with Rabon Oral Larvicide
002011-00010 | Vigortone Rabon 7.76 Oral Larvicide Premix
002205-00007 | Menthol
002290-00035 | Terre Dry Granular Ready To Use D-Crab with 2, 4-D
002296-00110 | Saniquat Disinfectant Sanitizer Deodorizer
002311-00011 | Qat 1000
002393-00385 | Hopkins 'diolice' Animal Insecticide
002553-00037 | Hi-Kil
002568-00094 | Seamate HB 33 Anti-Fouling 65a2000 Red
002568-00095 | Seamate HB 33 Anti-Fouling 65a2002 Blue
002568-00096 | Sovaklor Coastal Super Service Anti-Fouling V59R27 Red
002630-00005 | Ocean Spray Pine Oil Disinfectant Deodorant Cleanser
002693-00123 | Interswift Copolymer Antifouling Red BKA 007
002724-00429 | Zoecon RF-348 Apistan Queen Tab
002724-00430 | Zoecon RF-349 Apistan Strip
002724-00477 | Altosid 5E-FZ-515 (diacon)
002792-00071 | FPZ
002792-00072 | FPP
002800-00006 | Humco Moth Balls
002935-00062 | Red-Top Py-Rin 505 Concentrate
002935-00208 | Terraclor 2 Spray
002935-00357 | PCNB 10 Granular
002935-00364 | Red-Top Py-Rin 40 Jet
002935-00404 | Chlorate Concentrate
002935-00436 | Tumbleaf Cotton Defoliant
002935-00437 | Tumbleleaf Cotton Defoliant Liquid Concentrate 4
002935-00438 | Harvest Aid
002935-00439 | Harvest Aid Liquid Concentrate 4
002935-00462 | Tide Chlorate Defoliant
002935-00463 | Tide Solo 6
002935-00505 | Alfa Brand Wettable Sulfur
002935-00510 | Crop Rider LV-4d Weed Killer
003181-00007 | Aero-Master Fogging Insecticide Mill Fogging Formula
003181-00014 | Aero-Master Super Fogging Insecticide W/.50% SBP 1382
003468-00047 | Bantrol
003546-00027 | Shoofly Hornet Jet-Bomb
003837-00005 | Krystal
003838-00053 | Nutra-Cide 256
003862-00137 | L-Tox Spray
003862-00138 | Combine
003862-00139 | Fogging Spray Concentrate
003862-00141 | P.D.Q. Non Selective Weed Killer
003862-00144 | Pine Oil Disinfectant (phenol Coefficient 5)
003862-00146 | Aqua-Clear
003862-00147 | Clean-Up
003862-00149 | Lemon Tree 6 (lemon Press)
003862-00150 | Dual-27
003862-00151 | Algaecide 1250
003862-00152 | W.T.C. Algaecide and Algal Slimicide
003862-00154 | Towercide 10
003862-00155 | Microbiocide LD-10
003862-00160 | Slo-Mowshun Concentrate
003862-00161 | Y.B.C.
003862-00163 | LF-20
003862-00165 | R.T.G. Herbicide
003862-00166 | L.W.K. 2.5%
003862-00167 | L.W.K. 3.75%
003862-00170 | Space Spray 2500
003862-00171 | TAM-24
003862-00172 | Cog-1
003862-00173 | General Purpose Liquid Insect Killer
003876-00074 | Betz Slimicide 364
003876-00090 | Slimicide C-38
003876-00127 | Betz Slimicide C-41
003876-00152 | Dearcide 717
003876-00153 | Dearcide 722
003876-00154 | Dearcide 723
003876-00155 | Dearcide 716
004170-00076 | Ph7Q
004313-00037 | Self-Sanitizing Flow Flex Floor Finish
004313-00074 | Carroll Non-Acid Ready-To-Use Restroom Disinfectant
004482-00017 | Rid A Hospital Cleaner-Disinfectant-Sanitizer
004582-00065 | Ajax Disinfecting Cleanser
004704-00002 | Magic Circle Rabbit Repellent
004822-00084 | Bolt Ant and Roach Killer
004822-00148 | Johnson Yard Master Foam Crabgrass Preventer
004822-00153 | Johnson Buggy Whip Dual Action Roach Bait
004822-00318 | Raid Ant & Roach Killer
004822-00335 | Raid Ant Controller
004822-00411 | Raid Roach Bait III
004875-00012 | Indco LG-11 Sanitizer
005036-00002 | Patty-O-Candle Insect Repellent
005136-00014 | Panther 607 NF Cooling Tower Algaecide-Slimicide
005602-00199 | A-50 20% DDVP Insecticide
005768-00010 | 804 - Lemon Disinfectant
006109-00010 | Fiberfresh-MBI
006218-00040 | Summit Dibrom ULV Insecticide
006658-00038 | Cleaner/Disinfectant
006658-00039 | Disinfectant Deodorant
006658-00040 | Double Action Insect Killer with Double Action Spray
006658-00046 | Room Service Total Release Fogger
006658-00047 | Pro-Magic Long Shot Wasp-A-Way
006658-00050 | MPC Waterbased Aerosol Flying/crawling Insect Killer
007056-00164 | Pet Spray Formula No. Three
007056-00169 | CSA Insect Spray Formula Number Six
007056-00181 | CSA 2% D-Phenothrin General Purpose Insect Killer
007124-00099 | NUCLO 4 Ounce Slow Dissolve Chlorinating Tablets
007152-00019 | Sea/Cure-Shock Treatment
007173-00072 | Rozol Rodenticide Mineral Oil Concentrate
007173-00216 | Maki Paraffin Blocks with Bitrex
007675-00004 | Lithium Hypochlorite
007675-00007 | Formula 2 Shock Treatment
007675-00008 | Formula 2 Spa Sanitizer
007675-00009 | Formula 2 Spa Shock
008020-00001 | Best Odorless Roach Killer
008033-00008 | Hi-Chlon 70 EU Tablet
008033-00009 | Hi Chlon 70 EU Granular
008177-00007 | Valspar Marine Bottom Anti-Fouling Paint 3589
008177-00011 | Valspar Marine Bottom Antifouling Paint 3594 Escolux
008254-00001 | “4 the Birds” Transparent Bird Repellent
008325-00020 | Concentrated Disinfectant - Detergent 128
008325-00021 | Hi Concentrated Disinfectant - Detergent 256
008325-00022 | Sani-512 Sanitizer-Disinfectant-Deodorant
008325-00025 | Hi-Con 64 Disinfectant and Detergent
008378-00027 | Dursban 114 + Fertilizer
008378-00028 | Dursban 50 Granular Insecticide
008378-00033 | Dursban 1.14 Granules
008378-00042 | Dursban 70 with Plant Food
008378-00043 | Shaw's Dursban 50 with Plant Food
008378-00044 | Shaw's Dursban 60 with Plant Food
008378-00046 | Shaw's Dursban 100 Granules
008428-00002 | SC-745 Sanitizer
008576-20001 | Sodium Hypochlorite - 12.5%
008622-00051 | Super Bromide/Brom 5118
008637-00003 | Mitco CC-10-L Algicide
008637-00005 | Mitco CC-11-L Algicide
008668-00003 | North Insect Repellent Towelettes
008959-00006 | Swimtrine-50
009198-00039 | Turfcare Dursban 2.5G
009198-00068 | The Andersons 1% Dursban Brand Insecticide
009198-00076 | Andersons Tee Time 32-3-5 with Oftanol
009198-00082 | Tee Time Fertilizer with 0.52% Dursban 30-3-5
009198-00085 | Andersons Tee Time 30-3-5 with 0.71% Dursban
009198-00088 | Anderson's Tee-Time with 1.5% Oftanol
009198-00098 | Anderson's Tee Time with Team/dursban I
009198-00099 | Andersons Tee Time 19-5-9 with Team/dursban
009198-00137 | The Anderson 0.5% Dursban Brand Insecticide
009198-00166 | Proturf 30-5-3 Fertilizer Plus Insecticide III
009198-00168 | Proturf Fertilizer Plus Insecticide III
009198-00188 | Proturf Insecticide 4/insecticide IV
009198-00192 | Proturf Weedgrass Control 60 WDG
009404-00003 | Sunniland Flower Power
009601-00005 | Conquest
009861-00009 | TSC-911 Liquid Chlorinating Compound
010079-00003 | Nat-Chlor
010079-00004 | Top-Chlor
010147-00038 | Birkodyne
010163-00167 | Imidan 50-WP Garden & Home Insecticide
010250-00053 | Hempel's Antifouling Combic 76990-51110 Red
010350-00024 | Sectrol Concentrate No. 1490-B
010350-00025 | Gossyplure 20 MEC
010350-00026 | Sectrol Plus Flea Foam
010350-00027 | Sectrol Plus Pet Spray
010350-00028 | Sectrol Pet and Premise Flea Spray
010404-00045 | Lesco 24-4-12 Fertilizer with 1.5% Oftanol
010404-00047 | Lesco Oftanol 1.5% Granular
010679-00011 | Sodium Hypochlorite 10%
010691-00002 | Wonder-Aire Cooler Aid
010693-00010 | Flo-Kem Triple-2 Germicidal Cleaner
010772-00014 | Victory Formula Flea & Tick Pump Spray for Dogs
010772-00015 | Shield Creme Rinse for Dogs
010772-00017 | Victory Formula Flea and Tick Pump Spray for Cats
010807-00029 | Misty Insect Repellent Spray
010810-00002 | Dacar Dacarcide L 2
010810-00007 | Dacarcide L-35
010867-00002 | BAF-TROL
010867-00012 | BAF-90
011345-00003 | Supergreen Weed and Feed
011515-00029 | No. 401 Water Plant Killer
011525-00075 | P/P Disinfectant, Degreaser & Cleaner #2
011529-00001 | BAF-15
011541-00007 | O'b-Alge-670
011623-00053 | Apollo Flying & Crawling Insect Killer
011659-00012 | A-261
011659-00013 | A-265
012192-00002 | Sani-Fluff
012477-00002 | CP-50
013648-00001 | Glidclean 80/150 80% Pine Oil Disinfectant
013648-00002 | Glidclean 60/150 60% Pine Oil Disinfectant
013648-00003 | Glidco Pine Oil 150
013648-00004 | Glidco Pine Oil-140
013648-00007 | Glidco Pine Oil-60
013648-00008 | Glidco Pine Oil-80
013648-00010 | Glidclean 30/60
013648-00011 | Glidclean 25/150 25% Pine Type Disinfectant
013648-00013 | Glidclean 20% Pine-Type Disinfectant W/P.O. 150
013648-00019 | Glidclean 20/60 20% Pine Type Disinfectant
015297-00003 | Bio-Groom Cattle Shampoo with Pyrethrins Concentrate
015297-00008 | Biogroom Flea & Tick II Residual Permethrin Dip Concent
017545-00011 | Pyroxide Home and Garden Spray
018031-00001 | Nat-Chlor
018533-00015 | Pine Oil
018533-20001 | Sodium Hypochlorite Solution (12.5%)
018533-20002 | Sodium Hypochlorite Solution (10%)
023566-00017 | 673 Black Co-Poly Crab Pot Paint
026883-00005 | Red Copp 97N
026883-00006 | Lolo Tint 97
026883-00018 | Chem Copp HP II
026883-00019 | Chem Copp HP III
028293-00015 | Unicorn Phosmet Insecticidal Dust for Dogs
028293-00186 | Unicorn (Vegetable and Ornamental) Spray #2
033006-00004 | Sodium Hypochlorite Solution
033458-00001 | Compressed Chlorine Gas
033593-00001 | Chlorine
033593-20001 | Sodium Hypochlorite Solution
033753-00006 | Myacide S1
033981-00001 | Sodium Hypochlorite Solution
033981-00002 | Compressed Chlorine Gas
034052-00001 | Bear-Cat Fly Spray
034052-00012 | Bear-Cat Plus
034571-00013 | Betz Entec 349
034891-00002 | CWB- 4150
034892-00018 | Al-Pine Pine Odor Disinfectant
035138-00082 | Aero House and Garden Insect Control
035900-00020 | General Ionics Model G.i.2 Bacteriostatic Post Filter
036866-00004 | Super Veta Flea & Tick Killer for Cats & Dogs
036866-00007 | Super Veta Dermatological Flea & Tick Killer for Cats
036866-00009 | Veta D-Flea
037327-00001 | Ak 100 Water Treatment Microbiocide
037429-00001 | Bold Flowable Sulfur
037435-20002 | C.f. 10 Pool Chlorinating Solution
037910-00004 | Hi-Lite 90 G Granular
037910-00005 | Hi-Lite 60g
037982-00017 | All Pure Sodium Hypochlorite 11%
037982-00034 | All Pure Chlorine Gas 99.5
038422-00001 | Destain Sanitizer
039183-00012 | Bio-Syn 170-10
039702-00002 | Muralo Marine Copper Antifouling Bottom Paint 1331 Blue
040810-00017 | Irgaguard B 8000
041014-00002 | Marlate 50 Methoxychlor Insecticide
041014-00005 | Marlate Methoxychlor Technical
041134-00001 | Oniachlor 60
041134-00002 | Oniachlor 90
041134-00003 | Oniachlor EC
041200-00002 | Rabon 350 Mineral
041211-00003 | Chlorine
041211-00004 | DX Sodium Hypochlorite 12.5%
041211-00005 | DX Sodium Hypochlorite 5.25%
041211-00006 | DX Sodium Hypochlorite 10%
041451-00004 | Natra Flea Shampoo
041451-00008 | Natra Pet Mite Mist
041835-00011 | Synerkyl Pet Dip
041835-00012 | Dvm Shampoo Concentrate
041835-00013 | AG Synerkyl Water-Based Pet Spray
043917-00003 | Spira Punks B Mosquito Repellent Coils
043917-00004 | Spira Open Air Mosquito Repellent
043922-00002 | Hercules Sanitizer (sta Bright)
044632-20205 | Roach Kill Powder
044919-00002 | Model S-3 Bacteriostatic Water Filter Cartridge
045631-00018 | Sd-3 Disinfectant
045631-00021 | Sanova 335
045983-00001 | Jet Chlor
046075-00001 | American Trail Insect Repellant
046193-00013 | Trifluralin Df
046379-00005 | Fine Spring Bacteriostatic Water Filter Over Sink Unit,
046763-00001 | MB-25
046781-00011 | Premidyne
046813-00049 | CCL House & Garden Insect Killer II
046813-00062 | CCL Flying Insect Killer Xi
047332-00004 | CPF-2D Insecticide
047893-00004 | Ban-Gas
048302-00010 | AF Seaflo Z-100 LE-HS
049620-00001 | EKA Nobel Sodium Chlorate Weed Killer
049620-00003 | SVP-Pure Sodium Chlorate Precursor
050600-00002 | Shepard Brothers Sano Rinse
050600-00003 | Iodafect
050654-00005 | Bio-Hautschutz Repellent
051708-00013 | Proteam Polyquat Algaecide 50
053219-00004 | Demoss Moss & Algicide
053219-00011 | Thinex Blossom Thinner
053219-00014 | M/C Bioinsecticide
053219-00015 | Mattch II Bioinsecticide
053575-00022 | Isomate-OBLR/PLR
053871-00006 | Larvo-Bt
053883-00048 | Martin's Dursban Insecticide Granules
053883-00052 | Martin's Dursban 2 1/2% Insecticide Granules
054679-00001 | Custom Chlor
054734-00001 | Protecto-Copp
054734-00002 | Protecto - Zin
055363-00006 | Classic Yacht: Clear Choice Aerosol Antifoulant Coating
055460-00007 | R. Carlson Co. Spud Bark
055467-00004 | Tenkoz Atrazine 90df Herbicide
055467-00005 | Tenkoz Atrazine 4L Herbicide
055638-00044 | M-Trak Bioinsecticide
055638-00045 | MVP Bioinsecticide
055638-00046 | M-Peril Bioinsecticide
056077-00080 | Cedar Chemical Corporation Fluometuron Technical
056175-00001 | Protack Mosquito Mats
056437-00001 | Yea! Poly-D-Glucosamine Solution
056630-00004 | Variquat 50 MC
056630-00005 | Variquat 50 ME
056630-00006 | Variquat 80 MC Germicidal Concentrate
056630-00007 | Variquat 80 ME
056984-00001 | Lagenidium Giganteum Mycelium & Oospores
056984-00003 | Lagenidium Giganteum Oospores
057227-00002 | Britewood Q Sapstain Control
057227-00004 | Britewood BQ, Sapstain Control
057227-00005 | Britewood BQ-80 Sapstain Control
057787-00026 | Blast It
058199-00009 | Cyto-Booster
058300-00010 | Sanicide AG-5
058300-00011 | Sanicide CD-2
058300-00012 | Sanicide AG-2
058300-00013 | Sanicide AH-5
058369-00002 | Fuzzie Buddie Spray for Pets with Pure Eucalyptus Oil
058639-00004 | Car Mac Insecticidal Ear Tag #3
059144-00023 | Rose and Flower Systemic Granules
059578-00001 | Get Off My Garden
059578-00002 | Get Off My Garden
059638-00001 | Formula 4635
059905-00007 | Guardian
062190-00015 | Hickson Tubor
062366-00002 | Bug Stuff
062550-00001 | Calcium Hypochlorite Idroklorel
062635-00001 | Bugmat
062637-00004 | Bmp 123 (32 LC)
062638-00001 | Citronella Candle Bucket
062719-00042 | Reldan F Insecticidal Chemical
062719-00043 | Reldan 4E
062719-00102 | Balan E.C. 19.4%
062719-00103 | Balan Milled Concentrate 50%
062719-00243 | Recruit
062719-00245 | Lorsban 4E-SG
063660-00001 | Egis Iris Borer Deterrent
063809-00001 | Pinetec Pine Oil
064864-00042 | Deadline Force Liquid
064898-00006 | Sewerout II
065020-00001 | Bio-Guard S-3
065020-00010 | Bioguard HTD-128
065233-00004 | Treo Spf 8
065233-00009 | Treo Mosquito Repellant Moisturizing Lotion
065233-00013 | Primavera Botanical Bug-Repelling Wipes
065584-00001 | Top Chlor
065584-00003 | Sani-Clor Low Temperature Liquid Sanitizer
065656-00002 | Rice-Nil DF 80
065743-00002 | Chempak 10% Sodium Hypochloride Solution
066196-00001 | Oxycop Dust No. 3
066222-00012 | Cotnion-Methyl Azinphos Methyl 2EC
066397-00003 | Fortnight Brominating Tablets
066544-00002 | Promac 2000PY
066544-00003 | Promac 2000PN
066674-00002 | Terminator Plus
066680-00001 | Care-Flea Home Treatment
066733-00009 | Tiempo 4 EC
066733-00010 | Tiempo 1% Granules
066733-00011 | Tiempo 2% Granular
067003-00001 | S. D. I. C. 62 Granular
067003-00004 | Granular S.D.I.C
067003-00015 | T.I.C.A. Skimmer Sticks
067003-00018 | S.D.I.C. Chlorinating Granules
067003-00019 | Granular S.D.I.C. 56
067003-00023 | T.I.C.A. Granular
067209-00001 | Liquid Chlorine
067262-00021 | Granular Stabilized Chlorinator
067262-00032 | 3“ Tablets
067360-00004 | Intercide 340-A
067360-00005 | Intercide FC
067471-00002 | Pacific Sailor Copper Bottom Antifouling Red Paint
067471-00004 | Pacific Sailor Triple A Antifouling Red Paint
067543-00008 | XL 48
067760-00006 | Cyren 2E
067760-00007 | Cyren 4E Insecticide
067760-00031 | Cyren 2 TC
067813-00001 | Dow Liquid Disinfectant Formulation 2A
068182-00008 | Bio-Save 100 Biological Fungicide
068186-00003 | E-Rase Refill
068338-00005 | Sodium Hypochlorite 12.5%
068340-00001 | Flea.B.Gone
068401-00001 | D & D Carpet Powder for Fleas
068438-00001 | Roach Caulk
068467-00001 | BAC. Thuringiensis (ssp. Kurstaki) European Corn Borer
068687-00005 | 3807 Hs Red Oxide Vinyl Anti-Fouling Paint
068825-00001 | Vasco Pool Protector
069251-00001 | Viodine
069261-00001 | Harper Valley Diatomaceous Earth
069431-00001 | No More Moles
069741-00001 | Golden Solution Humidifier Bacteria Water Treatment
070060-00010 | Aseptrol WTS-F7 Sachet
070060-00017 | Aseptrol Gtab-14
070060-00021 | Aseptrol CSR-7.02
070160-00001 | Insect Control
070160-00004 | Insect Control Concentrate
070261-00001 | Medipure
070271-20002 | Lass0 10% Sodium Hypochlorite Solution
070413-00001 | Germ-Stat 1
070571-00001 | Collego Selective Postemergent Herbicide
070591-00001 | Noseeum
070614-00001 | GHG Carbon Dioxide
070627-00017 | Primafresh 20 with Dowicide A
070627-00018 | Primafresh 21 Citrus Wax with “dowicide A”
070810-00003 | Auxigro Mfg Plant Metabolic Primer
070870-00002 | Agricure RTU
070907-00008 | Pilot 50W Chlorpyrifos Agriculturalinsecticide
070907-00013 | Navigator 4WT Chlorpyrifos Wood Treatment Concentrate
070907-00017 | Chlorpyrifos 6 Manufacturing Concentrate
070907-00018 | Chlorpyrifos 4 Manufacturing Concentrate
071581-00007 | X-Lance 2
071624-00001 | Sulfuric Acid/Potato Vine Desiccant
071645-00002 | Santochlor 20
071655-00002 | PVP-Iodine 30/60
071704-00001 | Bromine 40
071977-00003 | Sunbelt Flowable Sulfur
072140-00001 | Unicorn Thermal Marine Coating Anti-Fouling Plastic
072262-00001 | Oxylit
072304-00004 | Clortram F-54 Flowable Fungicide
072322-00001 | Plant Nog
072593-00002 | Termite Blocker
072638-00001 | Blue Frog Pine Oil 60
072643-00001 | Disorb Tube
072992-00004 | T535
072992-00005 | T345
072992-00006 | T430 Vase Solution
072992-00009 | T426 Hydrating Solution
073049-00021 | Gibberellic Acid, 10%
073049-00022 | Release Plus
073049-00044 | Gibrel 4%
073049-00053 | Gibrel Plus 2x Plant Growth Regulator Soluble Powder
073062-00001 | VP Paraformaldehyde
073134-00001 | Bugaway! TSP Formula 1
073368-00002 | LRS Gas Liquid Chlorine #140
073368-20007 | LRS Liquid Sodium Hypochlorite #10
073465-00001 | Shellshock Insecticide
073637-00001 | Tillam 6-E Selective Herbicide
073637-00002 | Tillam Technical Selective Herbicide
073727-00013 | Verox -7.5
073727-00017 | Verox-37
073727-00018 | Verox-15
073727-00020 | Verox-2
074210-00004 | Sanital II
074246-00001 | Zydox 25
074292-00001 | Southwest Select Diatomaceous Earth
074424-00001 | Zenkill 1 Flying Insect
074530-00002 | Pendimethalin Tech.
074655-00017 | Daracide 2302
074812-00001 | The Graden Guy Diatomaceous Earth
074812-00002 | Garden-Ville Diatomaceous Earth
075341-00007 | Osmoplastic SD Wood Preserving Compound

IV. Public Docket

Complete lists of registrations canceled for non-payment of the maintenance fee will also be available for reference during normal business hours in the OPP Public Docket, Room 119, Crystal Mall #2, 1921 Jefferson Davis Highway South, Arlington VA, and at each EPA Regional Office. Product-specific status inquiries may be made by telephone by calling toll-free 1-800-444-7255.

List of Subjects

Environmental protection, pesticides and pest.

Dated: October 23, 2003.
James Jones,
Director, Office of Pesticide Programs.

[FR Doc. 03-27954 Filed 11-5-03; 8:45 a.m.]

BILLING CODE 6560-50-S